DEPARTMENT OF EDUCATION

[RIN 1820 ZA31]

National Institute on Disability and Rehabilitation Research

AGENCY: Office of Special Education and Rehabilitative Services, Department of Education.

ACTION: Notice of proposed priority.

SUMMARY: The Assistant Secretary for Special Education and Rehabilitative Services proposes a priority for one new award under the Assistive Technology Act of 1998 (AT Act) Technical Assistance Program (TA) for the National Institute on Disability and Rehabilitation Research (NIDRR). The Assistant Secretary may use this priority for competitions in fiscal year (FY) 2003 and later years. We take this action to focus attention on an area of national need. We intend this priority to measure and improve the outcomes of the AT State grant program that serves individuals with disabilities.

DATES: We must receive your comments on or before September 15, 2003.

ADDRESSES: Address all comments about this proposed priority to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle, Telephone: (202) 205-5880.

If you use a telecommunications device for the deaf (TDD), you may call the TDD number at (202) 205-4475 or via the Internet: donna.nangle@ed.gov.

Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this priority in Room 3412, Switzer Building, 330 C Street SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice published in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the competitive priority (34 CFR 75.105(c)(2) (ii)).

Invitational priority: Under an invitational priority, we are particularly interested in applications that meet the invitational priority. However, we do not give an application that meets the priority a competitive or absolute preference over other applications (34 CFR 75.105(c)(1)).

Note: NIDRR supports the goals of President Bush's New Freedom Initiative (NFI). The NFI can be accessed on the Internet at the following site: http://www.whitehouse.gov/news/freedominitiative/freedominitiative.html.

Assistive Technology Act

The AT Act reaffirmed the Federal role of promoting access to AT devices and services for individuals with disabilities. In 1988, Congress passed the original Technology Related Assistance for Individuals with Disabilities Act (Tech Act) to assist States to identify and respond to the AT needs of individuals with disabilities. Reauthorized in 1994, the Tech Act was premised on the assumption that individuals with disabilities needed access to AT devices and services, and that Federal funds could function as a catalyst and as leverage to create permanent systemic change within State infrastructures that did, could, or should make AT devices and services more readily available to individuals with disabilities.

In addition to continuing the AT State grant program and TA activities conducted under the earlier Tech Act, the 1994 Tech Act amendments required each State grant to set aside funds for the Protection and Advocacy (P&A) system in each State to assist individuals with disabilities access AT devices and services. The amendments also included standards of accountability to ensure that States would meet the Tech Act goals within the ten-year funding period.

The Tech Act was replaced in 1998 with the AT Act, which authorized an additional three years of funding for the States. The AT Act was passed in recognition of the technology challenges that remain for individuals with disabilities. AT State grant programs have met some of these challenges, documented continuing needs and reported the outcomes of their efforts through the implementation of a web-based data collection system.

Priority

Background

The purpose of the AT Act Data Collection Project is to regularly collect data from the 56 AT State grant program grantees and 56 P&A systems that will provide information about access to and provision of AT devices and service. The analyses of this data can be used to identify outcomes, infer trends and impacts, identify effective and replicable strategies, and support the formulation of new policies and practices.

In 1999, the Secretary established a Data Collection Project for a 48-month period for the purpose of collecting annual data from the AT State grant program grantees that would provide evidence-based, measurable results for individuals with disabilities and generate policy-relevant information for Federal, State and local decision-makers about the availability, use and purchase of AT devices and services as well as identify exemplary practices for improving access to AT services and devices.

On-going analyses of data will provide for program development and inform planning activities. The AT Act received funding in the FY 2003 budget to support operation through FY 2004. This Data Collection Project will be funded for 12 months to capture the grantees' activities during that period.

Goals

The short-term goal of this proposed priority is to maintain and support the existing Web-based data collection instrument for AT Act State grantees and to develop and implement a new web-based data collection instrument for the AT Act P&A grantees. The long-term goal of this proposed priority is to evaluate the performance of the AT Act grantees' and to measure the outcomes and impacts of their activities. Performance indicators will be used to measure outcomes including the extent to which grantees achieve the following short-term and long-term goals: (1) Increase access to and dissemination of information about AT; (2) increase outreach to underserved groups; (3) increase technical assistance and training for consumers and service providers; (4) increase interagency coordination; and (5) the impact of activities on individuals with disabilities including improved access to and capacity to live independently in the community, participate in educational environments, and obtain and maintain employment.

Proposed Priority

The Assistant Secretary proposes a Data Collection Technical Assistance Project. The purpose of the project is to maintain and support the existing Web-based data collection instrument for the AT Act State grantees and to develop, implement, test, support and maintain a Web-based data collection instrument for the AT Act P&A grantees. The Data Collection Technical Assistance Project must:

(a) Maintain and support the existing Web-based data collection instrument for the AT Act State grantees and develop, implement, test, support and maintain a Web-based data collection and analysis system, including a data collection instrument for the AT Act P&A grantees to assess performance, outcomes;

(b) Train entities funded under the AT Act in the use of the data collection systems including specific training on the data collection instruments;

(c) Generate analytical reports based on the data collected from the grantees and prepare an annual report on grantees' performance and outcomes, including interpretations of findings;

(d) Identify and evaluate successful strategies that can be linked to increased access to and provision of AT based on the data collected from the grantees, including analyses of use of AT by individuals with disabilities and national trends related to AT use by individuals with disabilities;

(e) Coordinate information dissemination activities and distribute information about access to and provision of AT for individuals with disabilities of all ages to the AT Act State grantees, AT Act P&A grantees, grantees providing TA to the AT Act State grantees and P&A grantees, and the National AT Internet Site; and

(f) Prepare and submit an annual report of findings about program outcomes, and separately prepare a report on assessment of the reliability of the data collection measures and validity of data collected from the AT Act grantees and P&A grantees, and the extent to which the data addresses the intended purposes of the data collection activities.

Executive Order 12866

This notice of proposed priority has been reviewed in accordance with Executive order 12866. Under the terms of the order, we have assessed the potential costs and benefits of this regulatory action.

The potential costs associated with the notice of proposed priority are those resulting from statutory requirements and those we have determined as necessary for administering this program effectively and efficiently.

In assessing the potential costs and benefits—both quantitative and qualitative—of this notice of proposed priority, we have determined that the benefits of the proposed priority justify the costs.

Summary of Potential Costs and Benefits

The potential cost associated with this proposed priority is minimal while the benefits are significant. Grantees may anticipate costs associated with completing the application process in terms of staff time, copying, and mailing or delivery. The use of e-Application technology reduces mailing and copying costs significantly.

The benefits of the Data Collection Project have been well established over the years in that similar projects have been completed. This proposed priority will generate new knowledge through a dissemination, utilization, training, and technical assistance project.

The benefit of this proposed priority and proposed applications and project requirements will be the establishment of a new Data Collection Technical Assistance Project that generates, disseminates, and promotes the use of new information that will improve access to AT and expand opportunities for employment, education and community life.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.224B, Assistive Technology Act Technical Assistance Program)
Program Authority: 29 U.S.C. 3014
Dated: August 11, 2003.
Loretta Petty Chittum,
Acting Assistant Secretary for Special Education and Rehabilitative Services.

[FR Doc. 03-20793 Filed 8-13-03; 8:45 am]

BILLING CODE 4000-01-U